DEPARTMENT OF THE INTERIOR

Bureau of Land Management

[AK—910-1410-PG]

Notice of Alaska Resource Advisory Council Meeting

AGENCY: Bureau of Land Management, Interior.

SUMMARY: The BLM Alaska Resource Advisory Council will conduct an open meeting Thursday, January 11, 2001, from 9:30 a.m. until 4:30 p.m. and Friday, January 12, 2001, from 8:30 a.m. until 3 p.m. The meeting will be held at the BLM Northern Field Office, 1150 University Avenue, Fairbanks, Alaska.

The primary agenda item for this meeting is to review draft resource management standards for BLM public lands in Alaska and to take public comment on this draft from 1 to 3 p.m. Thursday, January 11, 2001. The draft standards are standards are available for public review and comment at www.ak.blm.gov or call (907) 271-5555 to request a copy. Both oral and written comments will be taken at the meeting, or written comments may be mailed to BLM at the address below.

ADDRESSES: Inquiries or comments should be sent to External Affairs, Bureau of Land Management, 222 W. 7th Avenue, #13, Anchorage, AK 99513-7599.

FOR FURTHER INFORMATION CONTACT: Teresa McPherson, (907) 271-5555.

Francis R. Cherry, Jr.,
Acting State Director.

[FR Doc. 00-31536 Filed 12-11-00; 8:45 am]

BILLING CODE 4310-JA-M